DEPARTMENT OF ENERGY

Federal Energy Regulatory Commission

Combined Notice of Filings #1

Take notice that the Commission received the following electric rate filings:

Docket Numbers: ER18-2344-003.

Applicants: Headwaters Wind Farm LLC.

Description: Compliance filing: Headwaters Wind Farm LLC, Docket No. ER18-2344-003 to be effective 10/29/2018.

Filed Date: 4/22/19.

Accession Number: 20190422-5025.

Comments Due: 5 p.m. ET 5/13/19.

Docket Numbers: ER18-2397-002.

Applicants: Midcontinent Independent System Operator, Inc.

Description: Compliance filing: 2019-04-22_Compliance filing to Order 844 to be effective 7/1/2019.

Filed Date: 4/22/19.

Accession Number: 20190422-5112.

Comments Due: 5 p.m. ET 5/13/19.

Docket Numbers: ER19-875-001.

Applicants: Midcontinent Independent System Operator, Inc.

Description: Tariff Amendment: 2019-04-22_Deficiency Response to Cyber Security Coordination to be effective 3/30/2019.

Filed Date: 4/22/19.

Accession Number: 20190422-5142.

Comments Due: 5 p.m. ET 5/13/19.

Docket Numbers: ER19-1343-000; ER19-1342-000.

Applicants: NMRD Data Center III, LLC, NMRD Data Center II, LLC.

Description: Supplement to March 18, 2019 NMRD Data Center III, LLC, et al. tariff filings.

Filed Date: 4/19/19.

Accession Number: 20190419-5127.

Comments Due: 5 p.m. ET 5/3/19.

Docket Numbers: ER19-1629-000.

Applicants: Southwest Power Pool, Inc.

Description: § 205(d) Rate Filing: 3357 Monument Road Wind GIA Cancellation to be effective 3/21/2019.

Filed Date: 4/22/19.

Accession Number: 20190422-5005.

Comments Due: 5 p.m. ET 5/13/19.

Docket Numbers: ER19-1630-000.

Applicants: Entergy Louisiana, LLC.

Description: Tariff Cancellation: Entergy Louisiana, LLC to be effective 1/1/2019.

Filed Date: 4/22/19.

Accession Number: 20190422-5020.

Comments Due: 5 p.m. ET 5/13/19.

Docket Numbers: ER19-1631-000.

Applicants: Entergy Mississippi, LLC.

Description: Tariff Cancellation: Entergy Mississippi, LLC to be effective 1/1/2019.

Filed Date: 4/22/19.

Accession Number: 20190422-5024.

Comments Due: 5 p.m. ET 5/13/19.

Docket Numbers: ER19-1632-000.

Applicants: PJM Interconnection, L.L.C.

Description: Tariff Cancellation: Notice of Cancellation of ICSA, SA No. 3399, Queue Position V3-045 to be effective 3/7/2017.

Filed Date: 4/22/19.

Accession Number: 20190422-5057.

Comments Due: 5 p.m. ET 5/13/19.

Docket Numbers: ER19-1633-000.

Applicants: Rumford Power LLC.

Description: Compliance filing: Notice of Succession, Revised MBR Tariff, & New eTariff Baseline to be effective 4/23/2019.

Filed Date: 4/22/19.

Accession Number: 20190422-5101.

Comments Due: 5 p.m. ET 5/13/19.

Docket Numbers: ER19-1634-000.

Applicants: Bridgeport Energy LLC.

Description: Compliance filing: Revised MBR Tariff & New eTariff Baseline to be effective 4/23/2019.

Filed Date: 4/22/19.

Accession Number: 20190422-5111.

Comments Due: 5 p.m. ET 5/13/19.

Docket Numbers: ER19-1635-000.

Applicants: Glaciers Edge Wind Project, LLC.

Description: Baseline eTariff Filing: Glaciers Edge Initial Market-Based Rate Application Filing to be effective 6/22/2019.

Filed Date: 4/22/19.

Accession Number: 20190422-5113.

Comments Due: 5 p.m. ET 5/13/19.

Docket Numbers: ER19-1636-000.

Applicants: Midcontinent Independent System Operator, Inc.

Description: § 205(d) Rate Filing: 2019-04-22_Termination of SA 6510 MISO-Cleco SSR Agreement for Teche Unit No. 3 to be effective 4/30/2019.

Filed Date: 4/22/19.

Accession Number: 20190422-5123.

Comments Due: 5 p.m. ET 5/13/19.

Docket Numbers: ER19-1637-000.

Applicants: Southwest Power Pool, Inc.

Description: § 205(d) Rate Filing: Revisions to Attachment AE to Allow DVERs to Utilize Control Status 3 to be effective 12/31/9998.

Filed Date: 4/22/19.

Accession Number: 20190422-5128.

Comments Due: 5 p.m. ET 5/13/19.

Docket Numbers: ER19-1638-000.

Applicants: Tiverton Power LLC.

Description: Compliance filing: Revised MBR Tariff & New eTariff Baseline to be effective 4/23/2019.

Filed Date: 4/22/19.

Accession Number: 20190422-5133.

Comments Due: 5 p.m. ET 5/13/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 22, 2019.
Nathaniel J. Davis, Sr.,
Deputy Secretary.

[FR Doc. 2019-08425 Filed 4-25-19; 8:45 am]

BILLING CODE 6717-01-P